DEPARTMENT OF HEALTH AND HUMAN SERVICES

Office of the Secretary

Statement of Organization, Functions, and Delegations of Authority

AGENCY: Office for Civil Rights, Office of the Secretary, HHS.

SUMMARY: This notice establishes the Conscience and Religious Freedom Division in the Office for Civil Rights of the Department of Health and Human Services.

SUPPLEMENTARY INFORMATION: In accordance with Executive Order 13798 Promoting Free Speech and Religious Liberty (May 4, 2017), 82 FR 21675, and the Attorney General's Guidance on Federal Law Protections for Religious Liberty (October 6, 2017), Part A, Office of the Secretary, Statement of Organization, Functions, and Delegations of Authority for the Department of Health and Human Services (HHS), as last amended at 81 FR 95622 (December 28, 2016), is being amended at Chapter AT, Office for Civil Rights (OCR) to reflect the restructuring of OCR as follows:

I. Under Chapter AT, Office for Civil Rights (OCR), in the outline section at the beginning of the Chapter that reads:

“AT.00 Mission

AT.10 Organization

AT.20 Functions”

II. Under Chapter AT, Office for Civil Rights (OCR), delete “Section AT.00 Mission” in its entirety and replace with the following:

“AT.00 Mission

OCR, a Staff Division of the U.S. Department of Health and Human Services (HHS), ensures that individuals receiving services from HHS-funded programs are not subject to unlawful discrimination; that individuals and entities are free from coercion and can exercise their conscience and religious freedom rights; and that people can trust the privacy, security, and availability of their health information. By rooting out invidious discrimination and removing unlawful barriers to HHS-funded services, OCR carries out the HHS mission of improving the health and well-being of all Americans and providing essential human services. By ensuring individuals and institutions can exercise their conscience and religious freedom rights, OCR furthers justice and tolerance in a pluralistic society. By promoting the right to access health information and protecting the privacy and security of this information, OCR helps empower people's health care decision-making and helps ensure the integrity of the health care system and thereby promotes better health outcomes for the nation.

OCR accomplishes this by:

• Enforcing laws, investigating complaints, conducting compliance reviews, promulgating regulations, developing policy, providing technical assistance, and engaging in public education and outreach to ensure understanding of and compliance with all the laws OCR has authority over;

• Ensuring that recipients of HHS federal financial assistance comply with federal civil rights laws that prohibit discrimination on the bases of race, color, national origin, disability, age, sex, and religion;

• Ensuring that federal agencies, state and local governments, health care providers, health plans, and others comply with federal laws guaranteeing the free exercise of religious beliefs and moral convictions and the right to be free from coercion in HHS-conducted or funded programs; and

• Ensuring the practices of health care providers, health plans, health care clearinghouses, and their business associates adhere to federal privacy, security, and breach notification regulations under the Health Insurance Portability and Accountability Act (HIPAA) through the investigation of complaints, self-reports of breaches, compliance reviews, and audits.”

III. Under Chapter AT, Office for Civil Rights (OCR), delete “Section AT.10 Organization” in its entirety and replace with:

“AT.10 Organization

A. Office of the Director (AT)

B. Operations and Resources Division (ATA)

C. Civil Rights Division (ATB)

D. Health Information Privacy Division (ATC)

E. Conscience and Religious Freedom Division (ATD)”

IV. Under Chapter AT, Office for Civil Rights (OCR), Section “AT.20 Functions” delete subsection “A. Office of the Director (AT)” in its entirety and replace with the following:

“A. Office of the Director (AT). The Director is the Department's chief officer and adviser to the Secretary concerning implementation of, compliance with, and enforcement of civil rights and conscience and religious freedom laws applicable to HHS-funded or conducted programs or activities, and privacy, security, and breach notification rules under HIPAA. The Director provides leadership, priorities, guidance, and supervision to OCR and is responsible for its overall policy, programs, and operations. The Director is also responsible for representing the Secretary and the Department, in coordination and consultation with the Assistant Secretary for Legislation, before Congress and the Executive Office of the President on matters relating to civil rights, conscience and religious freedom, and health information privacy and for liaising with other federal departments and agencies responsible for similar or related matters.”

V. Under Chapter AT, Office for Civil Rights (OCR), Section “AT.20 Functions” at subsection “B. Operations and Resources Division (ATA)” add “, conscience and religious freedom,” after “ORD is responsible for responding to stakeholder calls and triaging civil rights.”

VI. Under Chapter AT, Office for Civil Rights (OCR), Section “AT.20 Functions” at subsection “C. Civil Rights Division (ATB),” delete “original” after “on the basis of race, color, national” and replace with “origin” and delete “; the Division also enforces provider conscience laws” after “sex, disability, and age.”

VII. Under Chapter AT, Office for Civil Rights (OCR), Section “AT.20 Functions” add a new subsection E as follows:

AT.20 Functions

* * * * *

“E. Conscience and Religious Freedom Division (ATD). The Conscience and Religious Freedom Division (CRFD) is headed by the Deputy Director for Conscience and Religious Freedom, who reports to the Director. The CRFD is responsible for OCR's national conscience and religious freedom program, including enforcement of and compliance with laws protecting conscience and the free exercise of religion and prohibiting coercion and religious discrimination. These laws include, but are not limited to, the Church Amendments (42 U.S.C. 300a-7); the Coats-Snowe Amendment (42 U.S.C. 238n); the Weldon Amendment (e.g., Pub. L. 115-31, Div. H, § 507(d) (2017)); Sections 1303(b)(4) and 1553 of the Affordable Care Act (42 U.S.C. 18023(b)(4) and 18113, respectively); the Religious Freedom Restoration Act (42 U.S.C. 2000bb et seq.); the employment religious nondiscrimination provisions in the Public Telecommunications Financing Act of 1978 (47 U.S.C. 398(b)) and the religious nondiscrimination provisions in various block grant authorizing statutes. The CRFD conducts OCR's nationwide enforcement and compliance activities including investigating and developing cases; negotiating case resolution agreements; developing enforcement and litigation strategies; promulgating regulations, policies, and guidance; and conducting compliance reviews of covered entities and HHS Operating and Staff Divisions, in consultation with the HHS Center for Faith-Based and Neighborhood Partnerships, as appropriate. The CRFD also identifies and designs conscience and religious freedom-specific training programs for Departmental staff, provides subject-matter expertise for public education and outreach activities to stakeholders nationwide, and liaises with, and provides conscience and religious freedom technical assistance and advisory services to, HHS Operating and Staff Divisions, national advocacy, beneficiary, and provider groups, religious organizations, faith-based organizations, and for profit and non-profit organizations, state and local governments, and to other federal departments and agencies, including by serving on intra- and interagency workgroups.”

VIII. Pending further delegations, directives, or orders by the Secretary or the OCR Director, all delegations and redelegations of authority to positions of the affected organizations in effect prior to the date of this notice shall continue in effect in them or their successors, provided they are consistent with this reorganization.

Dated: December 7, 2017.
Eric D. Hargan,
Acting Secretary, Department of Health and Human Services.

[FR Doc. 2018-00820 Filed 1-18-18; 8:45 am]

BILLING CODE 4153-01-P